DEPARTMENT OF HEALTH AND HUMAN SERVICES

Substance Abuse and Mental Health Services Administration

Notice Regarding Substance Abuse and Mental Health Services Administration's National Registry of Evidence-Based Programs and Practices (NREPP): Priorities for NREPP Reviews

Summary: The Substance Abuse and Mental Health Services Administration (SAMHSA) is committed to preventing the onset and reducing the progression of mental illness, substance abuse, and substance-related problems among all individuals, including youth. As part of this effort, SAMHSA has expanded and refined the agency's National Registry of Evidence-based Programs and Practices (NREPP). Two previous notices announcing these changes have been published in the Federal Register (70 FR 165, Aug. 26, 2005, 50381-50390; 71 FR 49, Mar. 14, 2006, 13133-13155).

This notice explains how SAMHSA and its three Centers will prioritize interventions submitted for NREPP reviews during Fiscal Year 2007 and provides guidance on the submission process. This information can be helpful to individuals and organizations seeking to have an intervention reviewed and listed on the new NREPP Web site.

For Further Information Contact: Kevin D. Hennessy, Ph.D., Science to Service Coordinator/SAMHSA, 1 Choke Cherry Road, Room 8-1017, Rockville, MD 20857, (240) 276-2234.

Dated: June 26, 2006.
Eric B. Broderick,
Acting Deputy Administrator, SAMHSA, Assistant Surgeon General.

Substance Abuse and Mental Health Services Administration's National Registry of Evidence-Based Programs and Practices (NREPP): Priorities for NREPP Reviews

Background

The Substance Abuse and Mental Health Services Administration's (SAMHSA) National Registry of Evidence-Based Programs and Practices (NREPP) is a voluntary rating and classification system designed to provide the public with reliable information on the scientific basis and practicality of interventions that prevent and/or treat mental and substance use disorders. Descriptive information and quantitative ratings are provided across several key areas for all interventions reviewed by NREPP. This information will be available to the public through a new NREPP Web site (http://www.nrepp.samhsa.gov) scheduled for launch by the end of 2006.

Public input from a range of stakeholders has improved NREPP's accessibility and usefulness as a “decision support tool” to help States, Territories, community-based organizations, and other interested stakeholders identify interventions that may meet their needs. NREPP will provide useful information—including ratings on the strength of evidence and readiness for dissemination—to assist individuals and organizations in identifying interventions that may address their particular needs and match their specific capacities and resources.

Each of SAMHSA's Centers—the Center for Substance Abuse Prevention, the Center for Substance Abuse Treatment, and the Center for Mental Health Services—will establish annual review priorities regarding the types of interventions to be included in NREPP. In general, these priorities will represent the interests and needs of relevant stakeholders and reflect SAMHSA's matrix and grant priorities.

This notice describes the Centers' priorities for Fiscal Year 2007 and provides guidance to individuals and organizations who may be considering submitting an intervention for NREPP review.

SAMHSA's NREPP Priorities

SAMHSA is prioritizing for NREPP review interventions that prevent and/or treat mental and/or substance use disorders. For NREPP purposes, SAMHSA defines interventions as programs, practices, and/or environmental strategies designed to change behavioral outcomes among a definable population or within a definable geographic area.

The agency anticipates that it will take a minimum of 3 to 5 years to expand NREPP to include a broader array of interventions to prevent and/or treat mental and/or substance use disorders.

SAMHSA encourages submissions of culturally appropriate interventions targeting specific populations.

Minimum Review Requirements

In order to facilitate the submission of interventions likely to receive strong reviews within NREPP, all potential submissions should provide documentation that they meet the following three minimum requirements:

1. The intervention demonstrates one or more positive changes (outcomes) in mental health and/or substance use behavior among individuals, communities, or populations;

2. Intervention results have been published in a peer-reviewed publication or documented in a comprehensive evaluation report; and

3. Documentation (e.g., manuals, process guides, tools, training materials) of the intervention and its proper implementation is available to the public to facilitate dissemination.

Submitted interventions that do not meet all three of these minimum requirements will not be considered for potential NREPP review.

Priority Review Points

Submitted interventions meeting the three minimum requirements will be prioritized through a system of awarded points. Interventions will receive one priority point, and thus higher priority for potential NREPP review, if they have been evaluated using a quasi-experimental or experimental study design. Such studies may include a pre/post design with comparison or control group, or longitudinal/time series design with a minimum of three data points, one of which must be a baseline assessment.

One priority point may also be obtained if the primary outcome(s) of the submitted intervention is in one or more of the following areas, categorized by the Center funding the review:

Center for Substance Abuse Prevention (CSAP)

CSAP Priority Areas focus on comprehensive community strategies, actions and interventions that:

• Prevent and/or reduce substance abuse and its related problems—e.g., underage drinking, inhalent abuse, cannabis use and abuse, drug-related suicide, alcohol and drug abuse among young adults, misuse of alcohol and prescription drugs among the elderly, and HIV/substance abuse problems.

• Change policies and practices at the community level to reduce risk factors and/or increase protective factors across multiple domains—e.g., workplace, schools, and neighborhoods.

• Address emerging substance abuse problems—e.g., methamphetamine, over-the-counter drugs, fentanyl and other synthetic drugs.

Center for Substance Abuse Treatment (CSAT)

CSAT Priority Areas focus on interventions to treat adolescents and adults with alcohol and/or drug disorders that are delivered as part of one or more of the following types of services:

• Screening, brief intervention, and referral.

• Outreach and engagement.

• Treatment and rehabilitation.

• Recovery support.

• Continuing care, self-care, and/or aftercare.

Center for Mental Health Services (CMHS)

CMHS Priority Areas focus on interventions to:

• Foster consumer- and family-provided mental health services.

• Divert adults with serious mental illness and/or children and adolescents with serious emotional disturbances from criminal and juvenile justice systems.

• Develop alternatives to the use of seclusion and restraint for adults with serious mental illness and/or children and adolescents with serious emotional disturbances.

• Prevent suicide in specific age groups (i.e., adolescents, young adults, elders).

Exclusions From NREPP

The following types of interventions should not be submitted to NREPP:

1. Stand-alone pharmacologic treatments—The evidence base for pharmacologic treatments is reviewed and approved through the U.S. Food and Drug Administration (FDA). NREPP reviews will be limited to on-label use of FDA-approved pharmacotherapy interventions that are combined with one or more psycho-social treatments.

2. Stand-alone smoking cessation—Smoking cessation interventions are appropriate for NREPP review only when they are conducted as part of a program for treatment of alcohol or other drugs of abuse.

Availability of NREPP Review Funds

It is essential that all individuals and oganizations submitting an intervention for potential NREPP review fully understand that reviews are contingent upon both the number of submissions received and the availability of NREPP contract resources. SAMHSA cannot guarantee the review of any specific submission.

Submission Guidance

SAMHSA has established an initial 4-month period for receipt of NREPP submissions that will begin October 1, 2006, and end February 1, 2007. Interventions submitted after February 1, 2007, will not be considered for NREPP review.

Any individuals or organizations whose submitted interventions are not selected for NREPP review may need to resubmit their materials should they wish to be considered for potential NREPP review during a subsequent fiscal year.

In the event that the total number of submitted interventions in one or more areas (e.g., mental health treatment) is unlikely to exhaust the annual NREPP contract review funds in that area, it is possible that SAMHSA would establish a second submission period in that area(s). If so, SAMHSA would publish information about this second submision period in a subsequent Federal Register notice.

Ordering and Priority of Submissions for Review

All submitted interventions meeting the three minimum requirements noted above will be considered for potential NREPP review.

Submitted interventions obtaining two priority points will be considered for potential NREPP review before those submitted interventions obtaining one priority point, and submitted interventions obtaining one priority point will be considered for potential NREPP review before those submitted interventions obtaining zero priority points. The number of interventions actually reviewed will depend upon available contract resources.

After ordering submitted interventions based on priority points obtained, consideration for potential NREPP review will be based on the order in which submitted interventions are received by the NREPP contractor (MANILA Consulting Group) during the 4-month submission period. For example, among substance abuse prevention interventions, all submissions with two priority points will be considered higher in the queue than submissions with one priority point, but among those with two priority points, an intervention received by MANILA Consulting Group on November 15, 2006, will be higher in the queue for potential NREPP review than an intervention received on January 15, 2007.

Contact Regarding Submissions

Individuals and/or organizations interested in submitting an intervention for NREPP review should contact the NREPP contractor, MANILA Consulting Group, to express this interest. Staff from MANILA will then provide further guidance and details about the submission process as appropriate. Electronic correspondence (e-mail) is preferred and can be sent to nrepp@manilaconsulting.net. Interested parties can also contact MANILA by phone at (571) 633-9797.

[FR Doc. 06-5928 Filed 6-29-06; 8:45 am]

BILLING CODE 4160-01-M